DEPARTMENT OF COMMERCE

National Oceanic and Atmospheric Administration

RIN 0648-XC480

Fisheries of the Gulf of Mexico; Southeast Data, Assessment, and Review (SEDAR); Public Meeting

AGENCY: National Marine Fisheries Service (NMFS), National Oceanic and Atmospheric Administration (NOAA), Commerce.

ACTION: Notice of SEDAR 33 data scoping conference call for Gulf of Mexico gag grouper (Mycteroperca microlepis) and greater amberjack (Seriola dumerili).

SUMMARY: The SEDAR 33 assessment of the Gulf of Mexico gag grouper and greater amberjack fisheries will consist of: a Data Workshop; and a series of Assessment process webinars; and a Review Workshop. This notice pertains to a conference call to take place prior to the Data Workshop. See SUPPLEMENTARY INFORMATION.

DATES: The SEDAR 33 data scoping conference call will be held on March 1, 2013 at 10 a.m.

ADDRESSES:

Meeting address: The toll free phone number for the conference call is 1-888-205-5513. The pass code for the conference call is 221256.

SEDAR address: 4055 Faber Place Drive, Suite 201, N. Charleston, SC 29405.

FOR FURTHER INFORMATION CONTACT: Ryan Rindone, SEDAR Coordinator; telephone: (813) 348-1630; email: ryan.rindone@gulfcouncil.org.

SUPPLEMENTARY INFORMATION: The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. SEDAR is a three-step process including: (1) Data Workshop; (2) Assessment process consisting of a series of webinars; and (3) Review Workshop. The product of the Data Workshop is a data report which compiles and evaluates potential datasets and recommends which datasets are appropriate for assessment analyses. The product of the Assessment process is a stock assessment report which describes the fisheries, evaluates the status of the stock, estimates biological benchmarks, projects future population conditions, and recommends research and monitoring needs. The assessment is independently peer reviewed at the Review Workshop. The product of the Review Workshop is a Consensus Summary documenting panel opinions regarding the strengths and weaknesses of the stock assessment and input data. Participants for SEDAR Workshops are appointed by the Gulf of Mexico, South Atlantic, and Caribbean Fishery Management Councils and NOAA Fisheries Southeast Regional Office and Southeast Fisheries Science Center. Participants include: data collectors and database managers; stock assessment scientists, biologists, and researchers; constituency representatives including fishermen, environmentalists, and non-governmental organizations (NGOs); international experts; and staff of Councils, Commissions, and state and federal agencies.

The items of discussion in the data scoping call are as follows:

Data sets necessary for adequately assessing Gulf of Mexico gag grouper and greater amberjack fisheries will be identified. This call serves as the starting point for collecting known data sets and is non-decisional in nature with respect to the outcome of the assessment.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

The meeting is physically accessible to people with disabilities. Requests for sign language interpretation or other auxiliary aids should be directed to the SEDAR office (see ADDRESSES) at least 10 business days prior to each workshop.

Note: The times and sequence specified in this agenda are subject to change.

Dated: January 30, 2013.
William D. Chappell,
Acting Deputy Director, Office of Sustainable Fisheries, National Marine Fisheries Service.

[FR Doc. 2013-02403 Filed 2-4-13; 8:45 am]

BILLING CODE 3510-22-P